DEPARTMENT OF THE TREASURY

Submission for OMB Review; Comment Request

May 25, 2016.

SUMMARY: The Department of the Treasury will submit the following information collection request to the Office of Management and Budget (OMB) for review and clearance in accordance with the Paperwork Reduction Act of 1995, Public Law 104-13, on or after the date of publication of this notice.

DATES: Comments should be received on or before June 30, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Departmental Offices

OMB Control Number: 1505-0168.

Type of Review: Revision of a currently approved collection.

Title: Travel Service Provider and Carrier Service Provider.

Abstract: The information is required of persons subject to the jurisdiction of the United States who have been authorized by OFAC to provide travel and carrier services in connection with travel-related transactions involving Cuba pursuant to the general licenses in section 515.572 of the Cuban Assets Control Regulations, 31 CFR part 515 (CACR). Persons providing services authorized pursuant to 31 CFR 515.572 are required to retain for at least five years from the date of the transaction certain documentation from customers indicating the source of their authorization to travel to Cuba, which must be furnished to OFAC on demand.

As a result of policy changes announced by the President on December 17, 2014, which were implemented in the regulatory changes published by OFAC on January 16, 2015 (80 FR 2291), June 15, 2015 (80 FR 34053), September 21, 2015 (80 FR 56915), January 27, 2016 (81 FR 4583), and March 16, 2016 (81 FR 13989) concerning the Cuban Assets Control Regulations (31 CFR 515), program changes have occurred. These changes, which encourage travel to Cuba coupled with arrangements announced by the Departments of State and Transportation allowing scheduled air service between the United States and Cuba, will significantly increase the ability of U.S. citizens to travel to Cuba to directly engage with the Cuban people, thus resulting in an estimated increase in the number of responses annually.

Affected Public: Businesses or other for-profits.

Estimated Total Annual Burden Hours: 29,167.

OMB Control Number: 1505-0190.

Type of Review: Extension of a currently approved collection.

Title: Terrorism Risk Insurance Program Rebuttal of Controlling Influence.

Abstract: The Terrorism Risk Insurance Act of 2002, as amended (TRIA), established the Terrorism Risk Insurance Program (TRIP), which the Secretary of the Treasury administers,

with the assistance of the Federal Insurance Office. Title 31 CFR 50.8 specifies a rebuttal procedure that requires a written submission by an insurer that seeks to rebut a regulatory presumption of “controlling influence” over another insurer under the TRIP to provide Treasury with necessary information to make a determination.

Affected Public: Businesses or other for-profits.

Estimated Total Annual Burden Hours: 400.

Brenda Simms,
Treasury PRA Clearance Officer.

[FR Doc. 2016-12729 Filed 5-27-16; 8:45 am]

BILLING CODE 4810-25-P